DEPARTMENT OF TRANSPORTATION

Federal Aviation Administration

Notice of Intent to Request Review and Approval From the Office of Management and Budget (OMB) of a Proposed Public Collection of Information

AGENCY: Federal Aviation Administration (FAA), Department of Transportation (DOT).

ACTION: Notice.

SUMMARY: In compliance with the Paperwork Reduction Act (44 U.S.C. 3501 et seq.), this notice announces that the FAA is planning to submit a proposed information collection request to the Office of Management and Budget (OMB) for review and approval. Through this notice, the FAA is soliciting comment on the proposed initial information request for application and subsequent reports (i.e. semi-annual facility performance statistics, archived data and user complaint corrective actions) associated with meeting the criteria of a Qualified Internet Communication Provider (QICP) for the transmission of aviation weather, Notice to Airmen (NOTAM), and aeronautical data via the Internet.

DATES: Comments must be received on or before October 22, 2001.

ADDRESSES: Comments may be mailed or delivered to the FAA at the following address: Mr. Steven Albersheim, Federal Aviation Administration, Aerospace Weather Policy Division, ARS-100, 800 Independence Ave., SW., Washington, DC 20591.

FOR FURTHER INFORMATION CONTACT: Ms. Judy Street, Federal Aviation Administration, Standards and Information Division (APF-100), 800 Independence Ave., SW., Washington, DC 20591, or on (202) 267-9895.

SUPPLEMENTARY INFORMATION: Title: Criteria for Internet Communications of Aviation Weather, NOTAM, and Aeronautical Data.

Abstract: Aviation weather information is available on the Internet from a variety of government and vendor sources with minimal quality control. Users of the National Airspace System (NAS), dispatchers, pilots, and air traffic controllers/specialists have expressed interest in the ability to utilize the Internet to retrieve aviation weather text and graphic products for operational decision-making. The FAA is in the process of establishing criteria in an Advisory Circular (AC) for QICPs, who disseminate aviation weather, NOTAM, and aeronautical data via the Internet, for the purpose of ensuring the reliability, accessibility and security of the data and encouraging the identification of the approval status of products. A proposed AC will provide information on QICP criteria and recommended practices as well as the procedures for a provider to become a QICP. The FAA Aerospace Weather Standards Division (ARS-200) will maintain a current list of all QICPs on a designated Web page accessible by the general public.

A person or organization, at their option, may be designated as a QICP by meeting the criteria as listed in the AC. The criteria address such attributes as reliability, accessibility, and security and encourage the QICP to provide FAA with semi-annual reports of performance statistics. In addition, the FAA is recommending that QICPs should maintain a retrievable archive of Web server log files as well as data received and provided in each user transaction for a period of no less than 15 days. The purpose is to be able to retrieve information provided by/to a user in the event of an aircraft incident or accident. The QICP should make this data available in the form of a readable certified true copy upon request of the FAA, the National Transportation Safety Board or a Federal, state or local law enforcement agency.

To help the public know who is a QICP, the FAA plans to maintain a list of applicants who meet the criteria in the AC. Users of the NAS are encouraged to utilize services of qualified providers who are on the FAA list to ensure that they are accessing secure data. Further, the FAA plans to propose in a soon to be issued draft policy statement, that persons who conduct operations under Title 14 of the code of Federal Regulations parts 121 and 135 will not be permitted to use Internet communications for aeronautical decision making unless they obtain authorization from the Administrator, in their operations specifications. Such authorization will enable use of a QICP for Internet transmission of aeronautical data, NOTAM, and aviation weather information that will be used to determine whether to issue a dispatch or flight release for the operation of flights under those regulations.

For record keeping purposes, QICP applicants are requested to provide the following:

(1) Submit a letter of application to ARS-200 with the following attachments:

(a) Service Description

(b) Security Plan

(c) Capability Demonstration Plan

(d) Ongoing Maintenance Plan

(2) Satisfactorily complete the Capability Demonstration.

Semi-annually, QICPs should demonstrate ongoing maintenance by collecting facility performance statistics and providing them to the Aerospace Weather Standards Division (ARS-200). Additionally, QICPs should acknowledge and address user complaints within 14 days of receipt, and forward user complaints to the staff within 30 days of receipt with an explanation of actions taken.

Description and number of proposed respondents: It is anticipated that a limited number of applicants will elect to submit the requested information to become a QICP. It is estimated that the number of applicants will be 10.

Burden hours: It is estimated that each QICP applicant will require 568 hours for the initial application and 274 hours for each subsequent year. In total it is estimated that it will take 5,680 hours for the first year and 2,740 hours each subsequent year for renewal of their status of being a QICP.

An agency may not conduct or sponsor, and a person is not required to response to a collection of information unless it displays a currently valid OMB control number. Therefore, the FAA is soliciting comments to: (i) Evaluate whether the proposed collection of information is necessary for the proper performance of the functions of the agency, including whether the information will have practical utility; (ii) evaluate the accuracy of the agency's estimate of the burden of the proposed collection of information, including the validity of the methodology and assumptions used; (iii) enhance the quality, utility and clarity of the information to be collected; and (iv) minimize the burden of the collection of information on those who are to respond, including through the use of appropriate automated electronic, mechanical or other technological collection techniques or other forms of information technology, e.g., permitting electronic submission of responses.

Issued in Washington, DC, on August 14, 2001.
Steve Hopkins,
Manager, Standards and Information Division, APF-100.

[FR Doc. 01-21087 Filed 8-20-01; 8:45 am]

BILLING CODE 4910-13-M